DEPARTMENT OF COMMERCE

International Trade Administration

(A-549-822)

Certain Frozen Warmwater Shrimp from Thailand; Partial Rescission of Antidumping Duty Administrative Review

AGENCY: Import Administration, International Trade Administration, Department of Commerce.

EFFECTIVE DATE: September 5, 2007.

FOR FURTHER INFORMATION CONTACT: Irina Itkin, AD/CVD Operations, Office 2, Import Administration, International Trade Administration, U.S. Department of Commerce, 14th Street and Constitution Avenue, NW, Washington, DC 20230; telephone: (202) 482-0656.

SUPPLEMENTARY INFORMATION:

Background

On February 2, 2007, the Department of Commerce (the Department) published in the Federal Register a notice of opportunity to request an administrative review of the antidumping duty order on certain frozen warmwater shrimp from Thailand for the period February 1, 2006, through January 31, 2007. See Antidumping or Countervailing Duty Order, Finding, or Suspended Investigation; Opportunity to Request Administrative Review, 72 FR 5007 (Feb. 2, 2007). On February 28, 2007, in accordance with 19 CFR 351.213(b)(2), certain respondents requested a review of the antidumping duty order on certain frozen warmwater shrimp from Thailand. In addition, on February 28, 2007, the petitioner ¹ and the Louisiana Shrimp Association (LSA), a domestic interested party, also requested administrative reviews for numerous Thai exporters of subject merchandise in accordance with 19 CFR 351.213(b)(2)(1).

¹ The petitioner in this proceeding is the Ad Hoc Shrimp Trade Action Committee.

On March 16, 2007, in accordance with 19 CFR 351.213(d)(1), the petitioner withdrew its request for review for six companies (i.e., Anglo-Siam Seafoods Co., Ltd. (Anglo-Siam Seafoods); Gallant Ocean (Thailand) Co., Ltd. (Gallant Ocean); Li-Thai Frozen Foods Co., Ltd. (Li-Thai); Queen Marine Food Co., Ltd. (Queen Marine); Smile Heart Foods Co., Ltd. (Smile Heart Foods); and Thai World Imports and Exports).

On April 6, 2007, the Department initiated an administrative review for 142 companies and requested that each provide data on the quantity and value (Q&V) of its exports of subject merchandise to the United States during the period of review (POR). These companies are listed in the Department's notice of initiation. See Notice of Initiation of Administrative Reviews of the Antidumping Duty Orders on Certain Frozen Warmwater Shrimp from Brazil, Ecuador, India and Thailand, 72 FR 17100, 17107-09 (Apr. 6, 2007). The Department was unable to locate three of these companies due to “undeliverable” addresses.

Between April and July 2007 the Department received Q&V questionnaire responses from certain companies that indicated that either they had no shipments of subject merchandise to the United States during the POR or the company name was a duplicate of a name already included in the initiation notice.

On July 5, 2007, in accordance with 19 CFR 351.213(d)(1), the LSA withdrew its request for review for six companies (i.e., Anglo-Siam Seafoods, Gallant Ocean, Li-Thai, Queen Marine, Smile Heart Foods, and Thai World Imports and Exports).

Partial Rescission of Review

On March 16, 2007, and July 5, 2007, the requests for administrative review were withdrawn for six companies, in accordance with 19 CFR 351.213(d)(1). These companies are: 1) Anglo-Siam Seafoods; 2) Gallant Ocean; 3) Li-Thai; 4) Queen Marine; 5) Smile Heart Foods; and 6) Thai World Imports and Exports. Section 351.213(d)(1) of the Department's regulations requires that the Secretary rescind an administrative review if a party requesting a review withdraws the request within 90 days of the date of publication of the notice of initiation. Therefore, because all requests for administrative reviews were timely withdrawn for the companies listed above, in accordance with 19 CFR 351.213(d)(1), we are rescinding this review with regard to these companies.

In addition, in accordance with 19 CFR 351.213(d)(3), we are rescinding the review with respect to the following 57 companies because these companies had no shipments of subject merchandise during the POR:

1) Ampai Frozen Foods Ltd.

2) A.S. Intermarine Foods Co., Ltd.

3) ACU Transport

4) Chaivaree Marine Products Co., Ltd.

5) Chue Eiw Mong Eak

6) Core Seafood Processing Co., Ltd.

7) Daedong (Thailand) Co., Ltd.

8) Dynamic Intertransport

9) Earth Food Manufacturing Co., Ltd.

10) Fait

11) Far East Cold Storage Co., Ltd.

12) Findus (Thailand) Ltd.

13) Grobest Frozen Foods Co., Ltd.

14) H.A.M. International Co., Ltd.

15) Heng Seafood Ltd. Part.

16) Heritrade

17) HIC (Thailand) Co., Ltd.

18) Inter-Oceanic Resources Co., Ltd.

19) K D Trdg

20) Lee Heng Seafood Co., Ltd.

21) Leo Transports

22) Magnate and Syndicate Co., Ltd.

23) Mahachai Food Processing Co., Ltd.

24) MKF Interfood

25) Namprik Maesri

26) N&N Foods Co., Ltd.

27) NR Instant Produce

28) Pacific Queen Co., Ltd.

29) Penta Impex

30) Premier Frozen Products Co., Ltd.

31) Preserved Foods

32) Rayong Coldstorage (1987) Co., Ltd.

33) S. Chaivaree Cold Storage Co., Ltd.

34) S Khonkaen Food Ind Public

35) Samui Foods

36) Sea Bonanza Foods Co., Ltd.

37) Siam Canadian Foods Co., Ltd.

38) Siam Food Supply Co., Ltd.

39) Siam Marine Products Co., Ltd.

40) Siam Ocean Frozen Foods Co., Ltd.

41) Siamchai International Food Co., Ltd.

42) Sky Fresh

43) Suntechthai Intertrdg

44) Surapon Nichirei Foods Co., Ltd.

45) Suratthani Marine Products Co., Ltd.

46) Suree Interfoods Co., Ltd.

47) T.S.F. Seafood Co., Ltd.

48) Tanaya Intl.

49) Tep Kinsho Foods

50) Teppitak Seafood

51) Thai Agri Foods Public Co., Ltd.

52) Thai Excel Foods Co., Ltd.

53) Thai Mahachai Seafood Products Co., Ltd.

54) Thai Ocean Venture

55) Thai Spring Fish Co., Ltd.

56) Thai Yoo

57) Trang Seafood Products Public Co., Ltd.

We reviewed U.S. Customs and Border Protection (CBP) data and confirmed that there were no entries of subject merchandise from any of these companies. Consequently, in accordance with 19 CFR 351.213(d)(3) and consistent with our practice, we are rescinding our review for the companies listed above. See, e.g., Certain Steel Concrete Reinforcing Bars From Turkey; Final Results and Rescission of Antidumping Duty Administrative Review in Part, 71 FR 65082, 65083 (Nov. 7, 2006) (Rebar from Turkey). We are also rescinding the review with respect to the following three companies because the Q&V questionnaires sent to these companies were returned to the Department because of “undeliverable” addresses: 1) Capital Food Trade Limited; 2) Shianlin Bangkok Co., Ltd. (at 148 Moo 5, Tambol Tasai, Muang, Samut Sakorn, Thailand); and 3) United Cold Storage Co., Ltd. (United Cold Storage). See the July 10, 2007, Memorandum to the File from Brianne Riker entitled, “Placing Information Regarding 'Undeliverable' Addresses on the Record in the 2006-2007 Antidumping Duty Administrative Review of Certain Frozen Warmwater Shrimp from Thailand.” Subsequently, we contacted the petitioners and the LSA and requested that they provide alternate addresses for these companies; however, they were unable to do so.² Consequently, in accordance with our practice, we are also rescinding our review with respect to these companies. See Rebar from Turkey, 71 FR at 65083.

² We note that, while the petitioner and the LSA provided an alternate address for United Cold Storage, this address was also “undeliverable.”

Further, the Department has received information that the following company names are duplicate names: 1) Fishery Cold Storage Public; 2) Instant Produce; 3) International Pacific Marine Products; and 4) Thanaya Intl. These names are partial or misspelled versions of names of other companies for which we initiated an administrative review (i.e., Thailand Fishery Cold Storage Public Co., Ltd.; NR Instant Produce; Inter-Pacific Marine Products Co., Ltd.; and Tanaya Intl., respectively). Therefore, we are also rescinding the review with respect to these duplicate company names.

Finally, the Department received no-shipment responses from the following companies for which there appeared to be U.S. customs entries of subject merchandise: 1) A. Wattanachai Frozen Products Co., Ltd.; 2) Bangkok Dehydrated Marine Products Co., Ltd.; 3) Daiei Taigen (Thailand) Co., Ltd.; 4) K.L. Cold Storage Co., Ltd.; and 5) Piti Seafoods Co., Ltd. We requested data on the relevant entries from CBP and determined that the entries were not reportable transactions because they were either: 1) non-subject merchandise (i.e., dried shrimp); or, 2) reported by another company in its quantity and value questionnaire. Therefore, in accordance with 19 CFR 351.213(d)(3), and consistent with the Department's practice, we are rescinding the review with respect to these companies. See, e.g., Certain Steel Concrete Reinforcing Bars from Turkey; Final Results, Rescission of Antidumping Duty Administrative Review in Part, and Determination to Revoke in Part, 70 FR 67665, 67666 (Nov. 8, 2005).

This notice is published in accordance with section 751 of the Tariff Act of 1930, as amended, and 19 CFR 351.213(d)(4).

Dated: August 29, 2007.
Stephen J. Claeys,
Assistant Secretary for Import Administration.

[FR Doc. E7-17517 Filed 9-4-07; 8:45 am]

BILLING CODE 3510-DS-S